DEPARTMENT OF LABOR

Mine Safety and Health Administration

Proposed Information Collection Request Submitted for Public Comment and Recommendations; Emergency Mine Evacuation

ACTION: Notice.

SUMMARY: The Department of Labor, as part of its continuing effort to reduce paperwork and respondent burden conducts a pre-clearance consultation program to provide the general public and Federal agencies with an opportunity to comment on proposed and/or continuing collections of information in accordance with the Paperwork Reduction Act of 1995 (PRA95) [44 U.S.C. 3506 (c)(2)(A)]. This program helps to ensure that requested data can be provided in the desired format, reporting burden (time and financial resources) is minimized, collection instruments are clearly understood, and the impact of collection requirements on respondents can be properly assessed.

Currently, the Mine Safety and Health Administration (MSHA) is soliciting comments concerning the extension of the information collection related to Emergency Mine Evacuation: 30 CFR 48.3—Training plans; time of submission; where filed; information required; time for approval; method for disapproval; commencement of training; approval of instructors; 30 CFR 75.1502—Mine emergency evacuation and firefighting program of instruction; 30 CFR 75.1504—Mine emergency evacuation training and drills; 30 CFR 75.1505—Escapeway maps. 30 CFR 75.1714-3—Self-rescue devices; inspection, testing, maintenance, repair, and recordkeeping; 30 CFR 75.1714-5—Map locations of self-contained self-rescuers (SCSRs); 30 CFR 75.1714-8—Reporting SCSR inventory and malfunctions; retention of SCSRs.

DATES: Submit comments on or before February 2, 2010.

ADDRESSES: Send comments to U.S. Department of Labor, Mine Safety and Health Administration, John Rowlett, Director, Management Services Division, 1100 Wilson Boulevard, Room 2134, Arlington, VA 22209-3939. Commenters are encouraged to send their comments via e-mail to Rowlett.John@dol.gov. Mr. Rowlett can be reached at (202) 693-9827 (voice), or (202) 693-9801 (facsimile).

FOR FURTHER INFORMATION: Contact the employee listed in the ADDRESSES section of this notice.

SUPPLEMENTARY INFORMATION:

I. Background

The Mine Safety and Health Administration (MSHA) issued a final rule addressing emergency mine evacuation in 2006. This regulation included requirements for immediate accident notification applicable to all mines. In addition, it contained requirements for new and expanded training, including evacuation drills; self-contained self-rescuer (SCSR) storage, training, and use; and the installation and maintenance of lifelines in underground coal mines.

Submission of training plans and programs of instruction and certification that training was done provides MSHA, operators, and miners with confidence that training is appropriate and was conducted as necessary, particularly when MSHA is not able to be at the mine. Without adequate training, miners may sustain serious or even fatal injuries because they lack the knowledge to properly and safely perform various tasks and activities or evacuate a mine.

If inspections and monitoring of SCSRs did not occur, this could allow unsafe conditions to go undetected and the SCSRs might not be usable when needed. This would endanger miners' safety.

If operators were not required to submit an SCSR inventory or to notify MSHA when they encounter an SCSR defect, performance problem, or malfunction, MSHA would not have the information needed to notify other mines that may also use the affected SCSRs. This could endanger miners because operators could continue to rely on deficient SCSRs.

II. Desired Focus of Comments

MSHA is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request can be obtained by contacting the employee listed in the ADDRESSES section of this notice, or viewed on the Internet by accessing the MSHA home page (http://www.msha.gov/) and selecting “Rules & Regs”, and then selecting “FedReg. Docs”. On the next screen, select “Paperwork Reduction Act Supporting Statement” to view documents supporting the Federal Register Notice.

III. Current Actions

Information collected is used by the mine operator and MSHA to ensure that underground coal operators modify their training plans whenever they modify their program of instruction. This will ensure that newly hired miners receive the same level of training as is required for other miners. Operators use part 48 training plans to train each miner about the safety and health aspects of the mining environment and the tasks associated with the miner's job. MSHA uses the plans to ensure that all miners are receiving training necessary to perform their jobs in a safe manner.

MSHA requires underground coal operators to submit a Mine Emergency Evacuation and Firefighting Program of Instruction to the District Manager for approval. Upon approval by the MSHA District Manager, the operator uses the approved program of instruction to implement programs for training miners in responding appropriately to mine emergencies. MSHA uses the plans to ensure that the operator's program will provide the required training and drills to all miners.

MSHA requires the operator to certify the training and drill for each miner at the completion of each quarterly drill, annual expectations training, or other training, and that a copy be provided to the miner upon request. These certifications are used by MSHA, operators, and miners as evidence that the required training has been completed.

MSHA requires that escapeway maps show the SCSR storage locations. Accurate and up-to-date maps are essential to the engineering plans and safe operation of mines and to the health and safety of the miners. MSHA and other emergency evacuation personnel will use the notations on the maps should a rescue or recovery operation be necessary. Miners use the escapeway maps in training and during mine evacuations. Escapeway maps are required to be posted or readily accessible for all miners in each working section, areas where mechanized mining equipment is being installed or removed, at surface locations where miners congregate and in each refuge alternative.

MSHA requires that persons that test Self-Contained, Self-Rescuers (SCSRs) certify that the tests were done and record all corrective actions. MSHA inspectors use these records to determine compliance with the standards. It includes requirements for compiling, maintaining, and reporting an inventory of all SCSRs at the mine, and for reporting defects, performance problems, or malfunctions with SCSRs. This will assure that MSHA can investigate SCSR problems, if necessary, notify other users of these problems before accidents occur and require manufacturers to address potential problems with these critical devices:

Type of Review: Extension.

Agency: Mine Safety and Health Administration.

Title: Emergency Mine Evacuation.

OMB Number: 1219-0141.

Frequency: On Occasion.

Affected Public: Business or other for-profit.

Respondents: 1,084,830.

Total Responses: 622.

Total Burden Hours: 7,836 hours.

Total Burden Cost: $68,528.

Comments submitted in response to this notice will be summarized and/or included in the request for Office of Management and Budget approval of the information collection request; they will also become a matter of public record.

Dated at Arlington, Virginia, this 30th day of November 2009.
John Rowlett,
Director, Management Services Division.

[FR Doc. E9-28893 Filed 12-3-09; 8:45 am]

BILLING CODE 4510-43-P